DEPARTMENT OF COMMERCE

Foreign-Trade Zones Board

[B-68-2020]

Foreign-Trade Zone (FTZ) 279—Houma, Louisiana; Authorization of Limited Production Activity; Deepwater Riser Services (Offshore Drilling Riser Systems and Equipment), Houma, Louisiana

On October 22, 2020, Deepwater Riser Services submitted a notification of proposed production activity to the FTZ Board for its facility within FTZ 279, in Houma, Louisiana.

The notification was processed in accordance with the regulations of the FTZ Board (15 CFR part 400), including notice in the Federal Register inviting public comment (85 FR 73018, November 16, 2020). On February 19, 2021, the applicant was notified of the FTZ Board's decision that further review of part of the proposed activity is warranted. The FTZ Board authorized the production activity described in the notification on a limited basis, subject to the FTZ Act and the Board's regulations, including Section 400.14, and further subject to a restriction requiring Kevlar straps for fins be admitted to the zone in privileged foreign status (19 CFR 146.41).

Dated: February 19, 2021.
Andrew McGilvray,
Executive Secretary.

[FR Doc. 2021-03785 Filed 2-23-21; 8:45 am]

BILLING CODE 3510-DS-P